DEPARTMENT OF COMMERCE

National Oceanic and Atmospheric Administration

[RTID 0648-XB901]

Caribbean Fishery Management Council; Public Meeting

AGENCY: National Marine Fisheries Service (NMFS), National Oceanic and Atmospheric Administration (NOAA), Commerce.

ACTION: Notice of a public meeting.

SUMMARY: The Caribbean Fishery Management Council's (Council) Scientific and Statistical Committee (SSC) will hold a two-day public hybrid meeting to address the items contained in the tentative agenda included in the SUPPLEMENTARY INFORMATION.

DATES: The public hybrid meeting will be held on April 12, 2022, from 10 a.m. to 5 p.m., and April 13, 2022, from 10 a.m. to 5 p.m. All meetings will be at Eastern Standard Time.

ADDRESSES: Meeting address: The hybrid meeting will be held at the Courtyard Marriott Isla Verde Beach Resort, 7012 Boca de Cangrejos, Carolina, Puerto Rico, 00979.

You may join the SSC public hybrid meeting via Zoom by entering the following address: https://us02web.zoom.us/j/87345855856?pwd=SDc1V1NIK24xcEF0Zlhud0lTNlcvdz09.

Meeting ID: 873 4585 5856.

Passcode: 793249.

One tap mobile:

+19399450244,,87345855856#,,,,*793249# Puerto Rico

+17879451488,,87345855856#,,,,*793249# Puerto Rico

Dial by your location:

+1 939 945 0244 Puerto Rico

+1 787 945 1488 Puerto Rico

+1 787 966 7727 Puerto Rico

+1 312 626 6799 U.S. (Chicago)

+1 346 248 7799 U.S. (Houston)

+1 646 558 8656 U.S. (New York)

+1 669 900 9128 U.S. (San Jose)

+1 253 215 8782 U.S. (Tacoma)

+1 301 715 8592 U.S. (Washington, DC)

Meeting ID: 873 4585 5856.

Passcode: 793249.

Find your local number: https://us02web.zoom.us/u/kKUpZ2IPc.

In case there are problems and we cannot reconnect via Zoom, the meeting will continue via GoToMeeting. You may join from a computer, tablet or smartphone by entering the following address: https://meet.goto.com/474688061.

You can also dial in using your phone.

United States: +1 (872) 240-3212

Access Code: 474-688-061

Join from a video-conferencing room or system.

Dial in or type: 67.217.95.2 or inroomlink.goto.com

Meeting ID: 474 688 061

Or dial directly: 474688061@67.217.95.2 or 67.217.95.2##474688061.

Get the app now and be ready when the first meeting starts: https://meet.goto.com/install.

FOR FURTHER INFORMATION CONTACT: Miguel Rolón, Executive Director, Caribbean Fishery Management Council, 270 Muñoz Rivera Avenue, Suite 401, San Juan, Puerto Rico 00918-1903, telephone: (787) 398-3717.

SUPPLEMENTARY INFORMATION: The following items included in the tentative agenda will be discussed:

April 12, 2022

10 a.m.-10:15 a.m.

—Call to order

—Roll call

—Approval of Verbatim Transcriptions

—Adoption of agenda

10:15 a.m.-12:30 p.m.

—Integrative analyses and visualization of SEAMAP-Caribbean (SEAMAP-C) data in Puerto Rico and the U.S. Virgin Islands (aka The Gold Copy)—JJ Cruz Motta

—Dashboard/Puerto Rico Port Sampling and Catch Validation Project—Todd Gedamke

—Discussion and Recommendations to the CFMC

12:30 p.m.-1:30 p.m.

—Lunch

1:30 p.m.-3 p.m.

—Southeast Fishery Science Center (SEFSC) Caribbean Branch Update

—SEFSC Inventory Update—Kevin McCarthy and Rachel Eckley

—SSC Recommendations to CFMC

3 p.m.-3:15 p.m.

—Break

3:15 p.m.-5 p.m.

—SEDAR-Stock Assessment Matrix—Kevin McCarthy, SEFSC

—Life history Update—Virginia Shervette/Noemi Peña/Jesus Rivera

—Continue discussion and recommendations to CFMC

April 13, 2022

10 a.m.-12 p.m.

—Island-Based Fishery Management Plan and Amendments Update—María López-Mercer, SERO/NOAA Fisheries

—Updated OFLs/ABCs for spiny lobster for years 2024-2026—SEFSC

—Update/SSC Review

—National SSC Update—Richard Appeldoorn

—SSC Recommendations to CFMC

12 p.m.-1 p.m.

-Lunch

1 p.m.-3 p.m.

—Caribbean Fishery Management Council's (CFMC) 5-year Strategic Plan—Michelle Duval

—Discussion: SSC Research Plan Recommendations to CFMC

3 p.m.-3:15 p.m.

—Break

3:15 p.m.-5 p.m.

—Finalize Research Priorities and Recommendations to CFMC

—Ecosystem-Based Fishery Management Technical Advisory Panel (EBFM TAP) Update

—Sennai Habtes

—SSC Ecosystem Conceptual Model review

—Where is it and how is it being used

—Lenfest overview (JJ Cruz Motta, Stacey Williams, Tarsila Seara)

—Plan to Meld Conceptual Models—Potentially Create Task Force—Orian Tzadik

—DAPs ECM overview (Liajay Rivera)

—Ecosystem Status Report: Ecosystem Indicators—Kelly Montenero, Mandy Karnauskas, SEFSC

—SSC Recommendations to the CFMC

—Other Business

—Adjourn

The order of business may be adjusted as necessary to accommodate the completion of agenda items. The meeting will begin on April 12, 2022, at 10 a.m. EST, and will end on April 13, 2022, at 5 p.m. EST. Other than the start time, interested parties should be aware that discussions may start earlier or later than indicated, at the discretion of the Chair. In addition, the meeting may be completed prior to the date established in this notice.

Special Accommodations

For any additional information on this public virtual meeting, please contact Dr. Graciela García-Moliner, Caribbean Fishery Management Council, 270 Muñoz Rivera Avenue, Suite 401, San Juan, Puerto Rico 00918-1903, telephone: (787) 403-8337.

Authority: 16 U.S.C. 1801 et seq.

Dated: March 21, 2022.
Tracey L. Thompson,
Acting Deputy Director, Office of Sustainable Fisheries, National Marine Fisheries Service.

[FR Doc. 2022-06257 Filed 3-23-22; 8:45 am]

BILLING CODE 3510-22-P